DEPARTMENT OF COMMERCE

International Trade Administration

Initiation of Five-year (“Sunset”) Reviews

AGENCY: Import Administration, International Trade Administration, Department of Commerce.

SUMMARY: In accordance with section 751(c) of the Tariff Act of 1930, as amended (“the Act”), the Department of Commerce (“the Department”) is automatically initiating five-year (“sunset”) reviews of the antidumping duty orders listed below. The International Trade Commission (“the Commission”) is publishing concurrently with this notice its notice of Institution of Five-year Review which covers these same orders.

EFFECTIVE DATE: June 1, 2005.

FOR FURTHER INFORMATION CONTACT: Zev Primor, Office 4, AD/CVD Operations, Import Administration, International Trade Administration, U.S. Department of Commerce at (202) 482-4114, or Mary Messer, Office of Investigations, U.S. International Trade Commission at (202) 205-3193.

SUPPLEMENTARY INFORMATION:

Background

The Department's procedures for the conduct of sunset reviews are set forth in 19 CFR 351.218. Guidance on methodological or analytical issues relevant to the Department's conduct of sunset reviews is set forth in the Department's Policy Bulletin 98.3 - Policies Regarding the Conduct of Five-year (“Sunset”) Reviews of Antidumping and Countervailing Duty Orders; Policy Bulletin, 63 FR 18871 (April 16, 1998) (“Sunset Policy Bulletin”).

Initiation of Reviews

In accordance with 19 CFR 351.218(c), we are initiating the sunset reviews of the following antidumping duty orders:

DOC Case No. | ITC Case No. | Country | Product
A-427-801 | 731-TA-392A | France | Antifriction Bearings, Ball
A-427-801 | 731-TA-392C | France | Antifriction Bearings, Spherical Plain
A-428-801 | 731-TA-391A | Germany | Antifriction Bearings, Ball
A-475-801 | 731-TA-393A | Italy | Antifriction Bearings, Ball
A-588-804 | 731-TA-394A | Japan | Antifriction Bearings, Ball
A-559-801 | 731-TA-396 | Singapore | Antifriction Bearings, Ball
A-412-801 | 731-TA-399A | United Kingdom | Antifriction Bearings, Ball
A-570-836 | 731-TA-718 | PRC | Glycine
A-570-804 | 731-TA-464 | PRC | Sparklers
A-570-601 | 731-TA-344 | PRC | Tapered Roller Bearings

Filing Information

As a courtesy, we are making information related to sunset proceedings, including copies of the Department's regulations regarding sunset reviews (19 CFR 351.218) and the Sunset Policy Bulletin, the Department's schedule of sunset reviews, case history information (i.e., previous margins, duty absorption determinations, scope language, import volumes), and service lists available to the public on the Department's sunset Internet website at the following address: “http://ia.ita.doc.gov/sunset/.” All submissions in these sunset reviews must be filed in accordance with the Department's regulations regarding format, translation, service, and certification of documents. These rules can be found at 19 CFR 351.303.

Because deadlines in a sunset review can be very short, we urge interested parties to apply for access to proprietary information under administrative protective order (“APO”) immediately following publication in the Federal Register of the notice of initiation of the sunset review. The Department's regulations on submission of proprietary information and eligibility to receive access to business proprietary information under APO can be found at 19 CFR 351.304-306.

Information Required from Interested Parties

Domestic interested parties (defined in section 771(9)(C), (D), (E), (F), and (G) of the Act and 19 CFR 351.102(b)) wishing to participate in these sunset reviews must respond not later than 15 days after the date of publication in the Federal Register of the notice of initiation by filing a notice of intent to participate. The required contents of the notice of intent to participate are set forth at 19 CFR 351.218(d)(1)(ii). In accordance with the Department's regulations, if we do not receive a notice of intent to participate from at least one domestic interested party, with respect to a given order listed above, by the 15-day deadline, the Department will automatically revoke that order without further review. See 19 CFR 351.218(d)(1)(iii).

If we receive an order-specific notice of intent to participate from a domestic interested party, the Department's regulations provide that all parties wishing to participate in the sunset review of that order must file complete substantive responses not later than 30 days after the date of publication in the Federal Register of this notice of initiation. The required contents of a substantive response, on an order-specific basis, are set forth at 19 CFR 351.218(d)(3). Note that certain information requirements differ for respondent and domestic parties. Also, note that the Department's information requirements are distinct from the Commission's information requirements. Please consult the Department's regulations for information regarding the Department's conduct of sunset reviews.¹ Please consult the Department's regulations at 19 CFR Part 351 for definitions of terms and for other general information concerning antidumping and countervailing duty proceedings at the Department.

¹ In comments made on the interim final sunset regulations, a number of parties stated that the proposed five-day period for rebuttals to substantive responses to a notice of initiation was insufficient. This requirement was retained in the final sunset regulations at 19 CFR 351.218(d)(4). As provided in 19 CFR 351.302(b), however, the Department will consider individual requests for extension of that five-day deadline based upon a showing of good cause.

This notice of initiation is being published in accordance with section 751(c) of the Act and 19 CFR 351.218(c).

Dated: May 25, 2005.
Holly A. Kuga,
Senior Office Director, AD/CVD Operations, Office 4 for Import Administration.

[FR Doc. E5-2771 Filed 5-31-05; 8:45 am]

BILLING CODE 3510-DS-S